DEPARTMENT OF TRANSPORTATION

Federal Aviation Administration

14 CFR Part 39

[Docket No. FAA-2014-0579; Directorate Identifier 2014-SW-020-AD; Amendment 39-18115; AD 2015-05-05]

RIN 2120-AA64

Airworthiness Directives; Agusta S.p.A. Helicopters

AGENCY: Federal Aviation Administration (FAA), DOT.

ACTION: Final rule.

SUMMARY: We are superseding Airworthiness Directive (AD) 2014-04-14 for Agusta S.p.A. (Agusta) Model A109S, AW109SP, A119, and AW119 MKII helicopters. AD 2014-04-14 required removing certain rod end assemblies from service because of reports of fractures. This new AD retains the requirements of AD 2014-04-14 but expands the scope of applicable rod end assemblies. This AD was prompted by reports of additional fractured rod end assemblies. We are issuing this AD to prevent failure of a rod end assembly, which could result in damage to the main rotor assembly and loss of control of the helicopter.

DATES: This AD is effective April 23, 2015.

ADDRESSES: For service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins. You may view this referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the European Aviation Safety Agency (EASA) AD, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Robert Grant, Aviation Safety Engineer, Safety Management Group, FAA, 2601 Meacham Blvd., Fort Worth, Texas 76137; telephone (817) 222-5110; email robert.grant@faa.gov.

SUPPLEMENTARY INFORMATION:

Discussion

We issued a notice of proposed rulemaking (NPRM) to amend 14 CFR part 39 to remove AD 2014-04-14, Amendment 39-17773 (79 FR 11699, March 3, 2014) for Agusta Model A109S, AW109SP, A119, and AW119 MKII helicopters with a main rotor lag damper assembly (lag damper), part number (P/N) 109-0112-39-103, 109-0112-39-105, 109-0112-05-105, or 109-0112-05-107, installed with a rod end assembly, P/N M004-01H007-041 or P/N M004-01H007-045, with a serial number from 84 through 132 or from 4964 through 5011, and add a new AD. The NPRM published in the Federal Register on August 18, 2014 (79 FR 48698). AD 2014-04-14 required removing the rod end assemblies from service. AD 2014-04-14 was prompted by AD No. 2012-0208, dated October 5, 2012, issued by EASA, which is the Technical Agent for the Member States of the European Union, to correct an unsafe condition for Agusta Model A109LUH, A109S, AW109SP, A119, and AW119 MKII helicopters. EASA advises of cases of in-flight fractures of rod end assembly, P/N M004-01H007-045, installed on main rotor lag dampers on Model A109LUH and AW109SP helicopters. An investigation revealed that two batches of rod end assemblies, P/N M004-01H007-041 and M004-01H007-045, could have cracks, according to EASA. EASA states that this condition, if not corrected, could lead to main rotor damage, possibly resulting in loss of control of the helicopter. The actions of AD 2014-04-14 were intended to prevent such damage and loss of control of the helicopter.

Actions Since AD 2014-04-14 Was Issued

Between the time we published the NPRM for AD 2014-04-14 (78 FR 44042, July 23, 2013) and the Final Rule for AD 2014-04-14 (79 FR 11699, March 3, 2014), EASA issued AD No. 2013-0290, dated December 9, 2013. EASA advises in AD No. 2013-0290 that a new case of a fractured rod end assembly has been reported and that additional batches of rod end assembly, P/N M004-01H007-041 and P/N M004-01H007-045, as well as batches of P/N 109-0112-11-101 and P/N 109-0112-22-105 could also have cracks. EASA expanded the applicability of its AD to include the additional rod end assemblies.

We consequently issued the NPRM (79 FR 48698, August 18, 2014) to amend 14 CFR part 39 to remove AD 2014-04-14 and add a new AD. The NPRM proposed to retain the requirements of AD 2014-04-14 but expand the scope of applicable rod end assemblies. The NPRM also proposed to add a provision requiring compliance with the AD if the rod end assembly is removed during maintenance before 25 hours time-in-service (TIS).

Comments

We gave the public the opportunity to participate in developing this AD, but we received no comments on the NPRM (79 FR 48698, August 18, 2014).

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs and that air safety and the public interest require adopting the AD requirements as proposed, except we have correctly stated the design holder's name as Agusta S.p.A. instead of AgustaWestland S.p.A. as specified by the current FAA type certificate. This change is consistent with the intent of the proposals in the NPRM (79 FR 48698, August 18, 2014) and will not increase the economic burden on any operator nor increase the scope of the AD.

Differences Between This AD and the EASA AD

The EASA AD calls for replacing certain rod end assemblies with airworthy rod end assemblies within 25 hours TIS, 2 months, or the next time maintenance of the applicable helicopters involves removing the rod end assembly. This AD does not have a calendar time requirement. The EASA AD applies to Agusta Model A109LUH helicopters. This AD does not apply to Model A109LUH helicopters because that model does not have a U.S. type certificate.

Related Service Information

We reviewed AgustaWestland Bollettino Tecnico (BT) No. 109S-49 for Model A109S helicopters, BT No. 109SP-052 for Model AW109SP helicopters, and BT No. 119-50 for Model A119 and AW119 MKII helicopters. All of the BTs are revision A, and dated December 3, 2013. The BTs specify a one-time inspection of each rod end assembly to determine its serial number. The BTs then require removal from service of certain serial-numbered rod end assemblies because fractures had been reported on rod ends in these batches. According to the BTs, no one was injured in the helicopters, and no helicopters were damaged because of these fractures.

Costs of Compliance

We estimate that this AD affects 91 helicopters of U.S. Registry and that labor costs average $85 a work-hour. Based on these estimates, we expect the following costs:

• Replacing a rod end assembly requires 1.5 work-hours for a labor cost of $128. Parts cost $3,918 for a total cost of $4,046 per helicopter, $368,186 for the U.S. fleet.

According to the manufacturer's service information, costs of this AD may be covered under warranty, thereby reducing the cost impact on affected individuals. We do not control warranty coverage by manufacturers. Accordingly, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-04-14, Amendment 39-17773 (79 FR 11699, March 3, 2014), and adding the following new AD:

2015-05-05 Agusta S.p.A.: Amendment 39-18115; Docket No. FAA-2014-0579; Directorate Identifier 2014-SW-020-AD.

(a) Applicability

This AD applies to the following helicopters, certificated in any category:

(1) Agusta S.p.A. (Agusta) Model A109S and AW109SP helicopters, with a main rotor lag damper assembly (lag damper), part number (P/N) 109-0112-39-103 or 109-0112-39-105, installed on rod end assembly, P/N M004-01H007-041 with a serial number (S/N) 1 through 202; or rod end assembly, P/N M004-01H007-045 with a S/N 1RW through 202RW or 4964 through 5011.

(2) Agusta Model A119 and AW119 MKII helicopters, with a lag damper, P/N 109-0112-05-105 or 109-0112-05-107, installed on rod end assembly, P/N 109-0112-11-101 with a S/N 1 through 78; or rod end assembly, P/N 109-0112-11-105 with a S/N 1RW through 78RW; or rod end assembly, P/N M004-01H007-045 with a S/N 1RW through 202RW or 4964 through 5011.

(b) Unsafe Condition

This AD defines the unsafe condition as a crack in a rod end assembly, which could result in fracture of the rod end assembly, damage to the main rotor, and subsequent loss of control of the helicopter.

(c) Affected ADs

This AD supersedes AD 2014-04-14, amendment 39-17773 (79 FR 11699, March 3, 2014).

(d) Effective Date

This AD becomes effective April 23, 2015.

(e) Compliance

You are responsible for performing each action required by this AD within the specified compliance time unless it has already been accomplished prior to that time.

(f) Required Actions

(1) Within 25 hours time-in-service or the next time maintenance of the helicopter involves removing the rod end assembly, whichever occurs first, remove the rod end assembly from service.

(2) Do not install a rod end assembly, P/N M004-01H007-041 with a S/N 1 through 202; P/N M004-01H007-045 with a S/N 1RW through 202RW or 4964 through 5011; P/N 109-0112-11-101 with a S/N 1 through 78; or P/N 109-0112-11-105 with a S/N 1RW through 78RW, on any helicopter.

(g) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone (817) 222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) AgustaWestland S.p.A. Bollettino Tecnico (BT) No. 109S-49, BT No. 109SP-052, and BT No. 119-50, all Revision A, and all dated December 3, 2013, which are not incorporated by reference, contain additional information about the subject of this AD. For service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins. You may review a copy of the service information at the FAA, Office of the Regional Counsel, Southwest Region, 2601 Meacham Blvd., Room 663, Fort Worth, Texas 76137.

(2) The subject of this AD is addressed in the European Aviation Safety Agency (EASA) AD No. 2013-0290, dated December 9, 2013. You may view the EASA AD on the Internet at http://www.regulations.gov in Docket No. FAA-2014-0579.

(i) Subject

Joint Aircraft Service Component (JASC) Code: 6200, Main Rotor System.

Issued in Fort Worth, Texas, on March 4, 2015.
Bruce E. Cain,
Acting Directorate Manager, Rotorcraft Directorate, Aircraft Certification Service.

[FR Doc. 2015-05715 Filed 3-18-15; 8:45 am]

BILLING CODE 4910-13-P